DEPARTMENT OF TRANSPORTATION

Federal Aviation Administration

14 CFR Part 71

[Docket No. FAA-2022-0626; Airspace Docket No. 22-ASO-8]

RIN 2120-AA66

Amendment and Removal of Area Navigation (RNAV) Routes; South-Central Florida Metroplex Project

AGENCY: Federal Aviation Administration (FAA), DOT.

ACTION: Final rule.

SUMMARY: This action amends low altitude United States Area Navigation (RNAV) routes, T-207, T-210, T-336, T-339, T-341, T-343, T-345, T-347, T-349, and T-353; and removes T-337, in support of the South-Central Florida Metroplex Project. These route changes were previously proposed in Docket No. FAA-2021-0940 but were deferred to a later date due to additional planning and coordination requirements.

DATES: Effective date 0901 UTC, September 8, 2022. The Director of the Federal Register approves this incorporation by reference action under 1 CFR part 51, subject to the annual revision of FAA Order JO 7400.11 and publication of conforming amendments.

ADDRESSES: FAA Order JO 7400.11F, Airspace Designations and Reporting Points, and subsequent amendments can be viewed online at https://www.faa.gov/air_traffic/publications/. For further information, you can contact the Rules and Regulations Group, Federal Aviation Administration, 800 Independence Avenue SW, Washington, DC 20591; telephone: (202) 267-8783.

FOR FURTHER INFORMATION CONTACT: Paul Gallant, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the route structure as necessary to preserve the safe and efficient flow of air traffic within the NAS.

History

The FAA published a notice of proposed rulemaking for Docket No. FAA-2021-0940, in the Federal Register (86 FR 61724; November 8, 2021). Interested parties were invited to participate in this rulemaking effort by submitting written comments on the proposal. No comments were received. However, the FAA determined that additional planning and coordination was required for the routes contained in this rule, so they were removed from the previous docket action. The route descriptions in this rule are as published in the NPRM.

United States RNAV T-routes are published in paragraph 6011 of FAA Order JO 7400.11F, dated August 10, 2021, and effective September 15, 2021, which is incorporated by reference in 14 CFR 71.1. The RNAV routes listed in this document will be subsequently published in FAA Order JO 7400.11.

Availability and Summary of Documents for Incorporation by Reference

This document amends FAA Order JO 7400.11F, Airspace Designations and Reporting Points, dated August 10, 2021, and effective September 15, 2021. FAA Order JO 7400.11F is publicly available as listed in the ADDRESSES section of this document. FAA Order JO 7400.11F lists Class A, B, C, D, and E airspace areas, air traffic service routes, and reporting points.

The Rule

This action amends 14 CFR part 71 by amending RNAV T-routes T-207, T-210, T-336 T-339, T-341, T-343, T-345, T-347, T-349, and T-353; and removing T-337, in support of the South-Central Florida Metroplex Project. The route changes are described below.

T-207: T-207 currently extends between the Ormond Beach, FL, (OMN) VHF Omnidirectional Radar and Tactical Air Navigational System (VORTAC) and the Waycross, GA, (AYS) VORTAC. This action realigns T-207 by moving the starting point from the Ormond Beach VORTAC to the FOXAM, FL, waypoint (WP), which is approximately 15 nautical miles (NM) north of the Ormond Beach VORTAC. The CARRA, FL, Fix and the MONIA, FL, Fix are removed from the route, and the segments between the CARRA Fix and the Waycross, GA, (AYS) VORTAC are also removed. Instead, T-207 begins at the FOXAM, FL, WP, then proceeds to the MMKAY, FL WP, then to a new end point at the WALEE, FL, WP (located east of the Gators, FL, (GNV) VORTAC).

T-210: T-210 currently extends between the MARQO, FL, WP, and the VARZE, FL, WP. The MARQO, FL, WP, and the BRADO, FL, Fix are removed from the route. The start point of the route is moved to the HADDE, FL, Fix, which is approximately 35 NM west of the MARQO, FL, WP. The MISSM, FL, WP is added between the HADDE, FL, Fix and the OHLEE, FL, WP. After the OHLEE, FL, WP, the route proceeds to the MMKAY, FL, WP, and then southward to the VARZE, FL, WP, as currently charted.

T-336: T-336 currently extends between the TROYR, FL, WP, and the WIXED, FL, WP. The FAA is amending the route by adding the FUTSY, FL, WP between the TROYR, FL, and OMMNI, FL, WPs. The VISTA, FL, WP is added between the OMMNI, FL, WP and the PUNQU, FL WP. The WIXED, FL, WP (the current end point of the route) is removed from T-336. A new end point for the route is established at the VALKA, FL, Fix. The VALKA Fix is approximately 15 NM northwest of the WIXED WP. As amended, T-336 extends between the TROYR, FL, WP, and the VALKA, FL, Fix.

T-337: T-337 currently extends between the SWENY, FL, WP and the WEZER, FL, WP. T-337 no longer provides the most efficient route into or out of southwest FL, therefore, the FAA is removing the entire route.

T-339: T-339 currently extends between the KARTR, FL, Fix and the ODDEL, FL, Fix. This change removes the KARTR Fix from the route. The start point is moved approximately 25 NM to the southeast of the KARTR Fix to the existing CARNU, FL, Fix. From the CARNU Fix, T-339 proceeds to the DEEDS, FL, Fix, and then proceeds to the end point at the ODDEL, FL, Fix as currently charted.

T-341: T-341 currently extends between the MEAGN, FL, WP, and the MARQO, FL WP. The FAA is inserting additional WPs along the route as follows. The YELLZ, FL, WP is inserted between the CUSEK, FL, WP and the WEZER, FL, WP. The DULFN, FL; OMMNI, FL; and WHOOU, FL, WPs are added between the VARSE, FL, and the MARQO, FL, WPs.

T-343: T-343 currently extends between the WORPP, FL, Fix, and the INDIA, FL, Fix. The WORPP Fix is removed from the route and the COOFS, FL, Fix becomes the new start point for the route. The COOFS Fix is approximately 2 NM southwest of the WORPP Fix.

T-345: T-345 currently extends between the MARKT, FL WP, and the DEARY, FL, Fix. The only change to the route is removing the DEARY, FL, Fix as the end point and substituting the VALKA, FL, Fix as the new end point. This realigns the route between the LLNCH, FL, Fix and the VALKA, FL, Fix to the east of its current track.

T-347: T-347 currently extends between the CLEFF, FL, WP, and the SEBAG, FL, Fix. This action moves the start point from the CLEFF, FL, WP southward to the SHANC, FL, Fix. This change extends T-347 southward by approximately 50 NM increasing the availability of RNAV routing. In addition, the ODDEL, FL, Fix is added between the BAIRN, FL, Fix and the SABOT, FL, Fix. As amended, T-347 extends between the SHANC, FL, Fix and the SEBAG, FL, Fix.

T-349: T-349 currently extends between the VARSE, FL, WP, and the TROYR, FL, WP. The only change to this route is the addition of the MILOW, FL, WP, and the MURDE, FL, WP between the VARSE, FL, WP and the TROYR, FL WP. The alignment of T-349 is not affected by this change.

T-353: T-353 currently extends between the FEBRO, FL, WP and the ASTOR, FL, Fix. This action removes the ASTOR, FL, Fix from the route and establishes a new end point for the route at the STARY, GA, Fix (located 18 NM northeast of the Brunswick, GA, (SSI) VORTAC. The COBOK, FL, Fix and the SUBER, FL, Fix are added between the FOXAM, FL, WP, and the STARY, GA, Fix. This results in the track of T-353 north of the FOXAM WP being shifted to the east of its current alignment. Additionally, moving the end point of the route from the ASTOR Fix to the STARY Fix provides approximately 80 NM of additional RNAV routing in the NAS.

FAA Order JO 7400.11, Airspace Designations and Reporting Points, is published yearly and effective on September 15.

Regulatory Notices and Analyses

The FAA has determined that this regulation only involves an established body of technical regulations for which frequent and routine amendments are necessary to keep them operationally current. It, therefore: (1) is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of amending 10 low altitude United States Area Navigation (RNAV) T routes, and removing one T route, as described above, in support of efforts transitioning the NAS from ground-based to satellite-based navigation, qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points); and paragraph 5-6.5b, which categorically excludes from further environmental impact review “Actions regarding establishment of jet routes and Federal airways (see 14 CFR 71.15, Designation of jet routes and VOR Federal airways) . . .”. As such, this action is not expected to result in any potentially significant environmental impacts. In accordance with FAA Order 1050.1F, paragraph 5-2 regarding Extraordinary Circumstances, the FAA has reviewed this action for factors and circumstances in which a normally categorically excluded action may have a significant environmental impact requiring further analysis. Accordingly, the FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11F, Airspace Designations and Reporting Points, dated August 10, 2021, and effective September 15, 2021, is amended as follows:

Paragraph 6011 United States Area Navigation Routes.

* * * * *

T-207 FOXAM, FL to WALEE, FL [Amended]
FOXAM, FL | WP | (Lat. 29°33′37.73″ N, long. 081°09′37.84″ W)
MMKAY, FL | WP | (Lat. 29°41′55.42″ N, long. 081°26′49.15″ W)
WALEE, FL | WP | (Lat. 29°41′36.05″ N, long. 082°14′07.07″ W)
* * * * * * *
T-210 HADDE, FL to VARZE, FL [Amended]
HADDE, FL | FIX | (Lat. 30°31′54.46″ N, long. 083°13′50.21″ W)
MISSM, FL | WP | (Lat. 30°27′28.15″ N, long. 082°36′32.24″ W)
OHLEE, FL | WP | (Lat. 30°16′06.04″ N, long. 082°06′32.53″ W)
MMKAY, FL | WP | (Lat. 29°41′55.42″ N, long. 081°26′49.15″ W)
MRUTT, FL | WP | (Lat. 29°12′12.40″ N, long. 081°23′55.50″ W)
GUANO, FL | FIX | (Lat. 29°05′58.73″ N, long. 081°23′18.93″ W)
KIZER, FL | FIX | (Lat. 28°55′26.00″ N, long. 081°22′17.83″ W)
EMSEE, FL | WP | (Lat. 28°50′43.72″ N, long. 081°32′47.03″ W)
DAIYL, FL | WP | (Lat. 28°49′10.74″ N, long. 081°41′29.68″ W)
AKOJO, FL | WP | (Lat. 28°45′44.01″ N, long. 081°43′31.54″ W)
PUNQU, FL | WP | (Lat. 28°34′33.65″ N, long. 081°49′22.43″ W)
VARZE, FL | WP | (Lat. 28°16′25.85″ N, long. 082°01′44.51″ W)
* * * * * * *
T-336 TROYR, FL to VALKA, FL [Amended]
TROYR, FL | WP | (Lat. 29°34′20.92″ N, long. 083°01′52.68″ W)
FUTSY, FL | WP | (Lat. 29°06′46.70″ N, long. 082°28′11.29″ W)
OMMNI, FL | WP | (Lat. 28°51′29.29″ N, long. 082°09′41.75″ W)
VIZTA, FL | WP | (Lat. 28°45′18.38″ N, long. 082°02′15.09″ W)
PUNQU, FL | WP | (Lat. 28°34′33.65″ N, long. 081°49′22.43″ W)
YOJIX, FL | FIX | (Lat. 28°02′44.04″ N, long. 081°33′45.34″ W)
YONMA, FL | FIX | (Lat. 28°03′55.68″ N, long. 081°24′31.18″ W)
ODDEL, FL | FIX | (Lat. 28°05′45.51″ N, long. 081°10′10.24″ W)
DEARY, FL | FIX | (Lat. 28°06′02.53″ N, long. 080°54′51.40″ W)
VALKA, FL | FIX | (Lat. 27°55′06.06″ N, long. 080°34′17.17″ W)
* * * * * * *
T-337 SWENY, FL to WEZER, FL [Removed]
* * * * * * *
T-339 CARNU, FL to ODDEL, FL [Amended]
CARNU, FL | FIX | (Lat. 25°08′18.13″ N, long. 081°19′32.12″ W)
DEEDS, FL | FIX | (Lat. 25°58′40.31″ N, long. 081°13′59.60″ W)
SWAGS, FL | FIX | (Lat. 26°10′37.07″ N, long. 081°05′59.93″ W)
ZAGPO, FL | WP | (Lat. 26°23′47.41″ N, long. 080°57′25.83″ W)
DIDDY, FL | FIX | (Lat. 27°18′38.15″ N, long. 080°52′55.92″ W)
ODDEL, FL | FIX | (Lat. 28°05′45.51″ N, long. 081°10′10.24″ W)
* * * * * * *
T-341 MEAGN, FL to MARQO, FL [Amended]
MEAGN, FL | WP | (Lat. 26°14′17.20″ N, long. 080°47′23.64″ W)
ZAGPO, FL | WP | (Lat. 26°23′47.41″ N, long. 080°57′25.83″ W)
CUSEK, FL | WP | (Lat. 26°51′38.79″ N, long. 081°23′17.37″ W)
YELLZ, FL | WP | (Lat. 27°51′36.18″ N, long. 081°56′34.16″ W)
WEZER, FL | WP | (Lat. 28°02′26.59″ N, long. 082°02′39.60″ W)
VARZE, FL | WP | (Lat. 28°16′25.85″ N, long. 082°01′44.51″ W)
DULFN, FL | WP | (Lat. 28°37′02.05″ N, long. 082°06′24.33″ W)
OMMNI, FL | WP | (Lat. 28°51′29.29″ N, long. 082°09′41.75″ W)
WHOOU, FL | WP | (Lat. 29°51′25.91″ N, long. 082°23′30.65″ W)
MARQO, FL | WP | (Lat. 30°30′53.57″ N, long. 082°32′45.62″ W)
* * * * * * *
T-343 COOFS, FL to INDIA, FL [Amended]
COOFS, FL | FIX | (Lat. 25°52′18.17″ N, long. 081°00′37.52″ W)
CUSEK, FL | WP | (Lat. 26°51′38.79″ N, long. 081°23′17.37″ W)
FEBRO, FL | WP | (Lat. 27°37′02.08″ N, long. 081°47′07.68″ W)
TAHRS, FL | WP | (Lat. 27°52′12.96″ N, long. 081°33′55.12″ W)
YOJIX, FL | FIX | (Lat. 28°02′44.04″ N, long. 081°33′45.34″ W)
YONMA, FL | FIX | (Lat. 28°03′55.68″ N, long. 081°24′31.18″ W)
ODDEL, FL | FIX | (Lat. 28°05′45.51″ N, long. 081°10′10.24″ W)
DEARY, FL | FIX | (Lat. 28°06′02.53″ N, long. 080°54′51.40″ W)
INDIA, FL | FIX | (Lat. 28°26′04.19″ N, long. 080°45′55.25″ W)
* * * * * * *
T-345 MARKT, FL to VALKA, FL [Amended]
MARKT, FL | WP | (Lat. 26°22′53.63″ N, long. 080°34′41.82″ W)
AIRBT, FL | WP | (Lat. 26°46′51.62″ N, long. 080°42′21.85″ W)
DOWDI, FL | WP | (Lat. 27°07′16.35″ N, long. 080°42′02.47″ W)
LLNCH, FL | FIX | (Lat. 27°26′07.67″ N, long. 080°41′44.46″ W)
VALKA, FL | FIX | (Lat. 27°55′06.06″ N, long. 080°34′17.17″ W)
* * * * * * *
T-347 SHANC, FL to SEBAG, FL [Amended]
SHANC, FL | FIX | (Lat. 26°18′51.14″ N, long. 080°20′00.16″ W)
BOBOE, FL | WP | (Lat. 26°28′48.72″ N, long. 080°23′05.23″ W)
DURRY, FL | WP | (Lat. 26°43′46.96″ N, long. 080°24′09.25″ W)
CLEFF, FL | WP | (Lat. 27°00′03.31″ N, long. 080°32′38.27″ W)
BAIRN, FL | FIX | (Lat. 27°56′52.37″ N, long. 081°06′54.35″ W)
ODDEL, FL | FIX | (Lat. 28°05′45.51″ N, long. 081°10′10.24″ W)
SABOT, FL | FIX | (Lat. 28°15′05.10″ N, long. 081°13′37.16″ W)
CROPY, FL | FIX | (Lat. 28°47′32.71″ N, long. 081°21′35.38″ W)
KIZER, FL | FIX | (Lat. 28°55′26.00″ N, long. 081°22′17.83″ W)
GUANO, FL | FIX | (Lat. 29°05′58.73″ N, long. 081°23′18.93″ W)
MRUTT, FL | WP | (Lat. 29°12′12.40″ N, long. 081°23′55.50″ W)
FOXAM, FL | WP | (Lat. 29°33′37.73″ N, long. 081°09′37.84″ W)
SEBAG, FL | FIX | (Lat. 29°49′04.24″ N, long. 081°12′34.72″ W)
* * * * * * *
T-349 VARZE, FL to TROYR, FL [Amended]
VARZE, FL | WP | (Lat. 28°16′25.85″ N, long. 082°01′44.51″ W)
MILOW, FL | WP | (Lat. 28°38′02.43″ N, long. 082°18′14.27″ W)
MURDE, FL | WP | (Lat. 29°01′30.64″ N, long. 082°36′18.52″ W)
TROYR, FL | WP | (Lat. 29°34′20.92″ N, long. 083°01′52.68″ W)
* * * * * * *
T-353 FEBRO, FL to STARY, GA [Amended]
FEBRO, FL | WP | (Lat. 27°37′02.08″ N, long. 081°47′07.68″ W)
MOANS, FL | FIX | (Lat. 27°54′49.97″ N, long. 081°44′54.89″ W)
PUNQU, FL | WP | (Lat. 28°34′33.65″ N, long. 081°49′22.43″ W)
AKOJO, FL | WP | (Lat. 28°45′44.01″ N, long. 081°43′31.54″ W)
DAIYL, FL | WP | (Lat. 28°49′10.74″ N, long. 081°41′29.68″ W)
EMSEE, FL | WP | (Lat. 28°50′43.72″ N, long. 081°32′47.03″ W)
KIZER, FL | FIX | (Lat. 28°55′26.00″ N, long. 081°22′17.83″ W)
GUANO, FL | FIX | (Lat. 29°05′58.73″ N, long. 081°23′18.93″ W)
MRUTT, FL | WP | (Lat. 29°12′12.40″ N, long. 081°23′55.50″ W)
FOXAM, FL | WP | (Lat. 29°33′37.73″ N, long. 081°09′37.84″ W)
COBOK, FL | FIX | (Lat. 29°48′30.53″ N, long. 081°06′45.71″ W)
SUBER, FL | FIX | (Lat. 30°27′24.49″ N, long. 081°06′45.46″ W)
STARY, GA | FIX | (Lat. 31°12′04.70″ N, long. 081°08′40.48″ W)
* * * * * * *

Issued in Washington, DC, on June 21, 2022.
Scott M. Rosenbloom,
Manager, Airspace Rules and Regulations.

[FR Doc. 2022-13581 Filed 6-27-22; 8:45 am]

BILLING CODE 4910-13-P